COMMITTEE FOR PURCHASE FROM PEOPLE WHO ARE BLIND OR SEVERELY DISABLED

Procurement List; Addition

AGENCY: Committee for Purchase From People Who Are Blind or Severely Disabled.

ACTION: Addition to the Procurement List.

SUMMARY: This action adds a service to the Procurement List that will be provided by a nonprofit agency employing persons who are blind or have other severe disabilities.

DATES: Effective Date: 2/18/2013.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Addition

On 11/9/2012 (77 FR 67343-67344), the Committee for Purchase From People Who Are Blind or Severely Disabled published notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 USC 8501-8506) in connection with the service proposed for addition to the Procurement List.

End of Certification

Accordingly, the following service is added to the Procurement List:

Service

Service Type/Location: Mess Attendant Service and Cook Support, Two Seasons Dining Facility, 447 North Street, Building 2207, Eielson Air Force Base, AK.

NPA: Lakeview Center, Inc., Pensacola, FL.

Contracting Activity: Dept of the Air Force, FA5004 354 CONS LGC, Eielson AFB, AK.

Comments were received from two associations representing agencies and merchants authorized to provide full-food services to military dining facilities under the Randolph-Sheppard Act. Both associations expressed their belief that the mess attendant service and cook support project identified in this Procurement List addition should be considered a full-food service project subject to the Randolph-Sheppard Act.

The Air Force Performance Work Statement, as well as documentation from the contracting activity, confirms that the specific requirements of this project do not include full-food service or the operation of a cafeteria. Government personnel will operate and manage the dining facilities and the AbilityOne nonprofit agency will provide dining support services. When full-food service is not required and the Department of Defense needs dining support services, those services are appropriate for performance by a qualified AbilityOne nonprofit agency. Therefore, following its deliberative review of the suitability of this project, the Committee For Purchase From People Who Are Blind or Severely Disabled determined that the mess attendant service and cook support project does not involve full-food service and will be added to the Procurement List.

Barry S. Lineback,
Director, Business Operations.

[FR Doc. 2013-01029 Filed 1-17-13; 8:45 am]

BILLING CODE 6353-01-P